DEPARTMENT OF EDUCATION

34 CFR Part 75

[Docket ID ED-2025-OS-0020]

Final Priorities and Definitions—Secretary's Supplemental Priorities and Definitions on Evidence-Based Literacy, Education Choice, and Returning Education to the States

AGENCY: U.S. Department of Education.

ACTION: Final priorities and definitions.

SUMMARY: The Department of Education (Department) announces three priorities and related definitions for use in currently authorized discretionary grant programs or programs that may be authorized in the future. The Secretary may choose to use an entire priority for a grant program or a particular competition or use one or more of the priority's component parts. These priorities and definitions replace the Secretary's supplemental priorities published in the Federal Register on December 10, 2021 (86 FR 70612) and all other agency-wide supplemental priorities published prior to January 20, 2025.

DATES: The priorities and definitions are effective October 9, 2025.

FOR FURTHER INFORMATION CONTACT: Zachary Rogers, U.S. Department of Education, 400 Maryland Avenue SW, Washington, DC 20202-6450. Telephone: (202) 260-1144. Email: SSP@ed.gov.

If you are deaf, hard of hearing, or have a speech disability and wish to access telecommunications relay services, please dial 7-1-1.

SUPPLEMENTARY INFORMATION:

Purpose of This Regulatory Action: On May 21, 2025, the Department published a notice of proposed supplemental priorities and definitions (NPP) in the Federal Register (90 FR 21710). These final priorities and definitions may be used across the Department's discretionary grant programs.

Summary of the Major Provisions of This Regulatory Action: Through this regulatory action, we establish three supplemental priorities and associated definitions. Each major provision is discussed in the Public Comment section of this document.

Program Authority: 20 U.S.C. 1221e-3, 3474, 6301 et seq., 5 U.S.C. 311 et seq.

The NPP in the Federal Register published on May 21, 2025, (90 FR 21710) contained background information and our reasons for proposing the priorities and definitions. There are differences between the proposed priorities and definitions and the final priorities and definitions established in this notice of final priorities and definitions (NFP), as discussed in the Analysis of Comments and Changes section in this document.

Public Comment: In response to our invitation in the NPP, more than 1,500 parties submitted comments on the proposed priorities and definitions.

Generally, we do not address technical and other minor changes, or suggested changes that the law does not authorize us to make under applicable statutory authority. In addition, we do not address general comments regarding concerns not directly related to the proposed priorities or definitions.

Analysis of Comments and Changes: An analysis of the comments and of any changes in the priorities and definitions since publication of the NPP follows.

General Comments

Comments: Many commenters appreciated the Department's focus on core issues such as evidence-based literacy, education choice, and State flexibility, noting their importance. Additionally, commenters provided feedback noting their appreciation for the clarity of the priorities and their agreement that Federal involvement often led to burdensome compliance requirements and limited local flexibility.

Discussion: Thank you to all the commenters who expressed support for the priorities. The Department appreciates the support for the prioritization of evidence-based literacy, education choice, and returning education to the States.

Changes: None.

Comments: Many commenters expressed general opposition to the Department's proposed priorities. In so expressing their general opposition, some of these commenters advocated for the priorities issued by the Department under the Biden Administration in 2021 or expressed support for specific themes from those priorities, such as social and emotional learning (SEL); diversity, equity, and inclusion (DEI) programs; teacher diversity; and equity in Science, Technology, Engineering, and Mathematics (STEM). Two commenters noted that they believed that the 2021 priorities were a tool to incentivize equal educational opportunities and welcoming school environments, which the commenters thought were important.

Regarding SEL and DEI programs under the Biden Administration, commenters advocated for the continuation and expansion of these programs. Commenters cited research on SEL as it relates to students' self-management and regulation, interpersonal relationships, mental health, and academic achievement. Commenters also emphasized their belief that DEI initiatives are crucial to fostering inclusive environments and ensuring civil rights for all students, regardless of their background. Some commenters suggested that by removing the 2021 priorities, which had a focus on DEI, the Department runs the risk of grantees violating Federal civil rights law.

Several commenters advocated for including SEL approaches, including trauma-informed practices, in Priority 1 with regard to how literacy is taught. Other commenters suggested that Priority 1 provides for additional services to support student well-being, such as health care and mental health, with one commenter naming a Full-Service Community Schools project that helps to provide these types of supports.

Additional commenters expressed opposition to SEL. One commenter stated that teachers are already overwhelmed with instructional responsibilities, that knowledgeable and compassionate teachers can nurture students, and that other institutions outside of school can provide social and emotional learning opportunities. Another commenter, while appreciating the intent behind SEL, noted that a focus on SEL may divert time away from academic instruction, lead to higher administrative costs due to additional staff and resources, and may reflect political or ideologic biases that do not align with all families' views. The commenter also stated that SEL programs are difficult to assess.

Discussion: While the Department appreciates the comments regarding the 2021 Secretary's Supplemental Priorities, this Administration is focused on addressing the urgent challenges highlighted by the abysmal National Assessment of Educational Progress (NAEP) scores in literacy, expanding learning options, and making sure decisions in education are made closest to the child.

These priorities do not change the enforcement of Federal civil rights laws. Rather, it is necessary to repeal the 2021 priorities because they encourage recipients to violate Federal civil rights law—particularly Title VI of the Civil Rights Act of 1964—by using race-based preferences and stereotypes, and racial exclusion in their programs and to use Federal funds to promote or endorse gender ideology and political activism. Additionally, the 2021 priorities are not consistent with this Administration's focus on merit, fairness, and excellence, nor did they center educational decisions with parents and States who understand their children and communities best. The Department has long had the discretionary authority to focus grant funds through supplemental priorities, which it has done across several administrations.

With regard to Priority 1, the priority rightly avoids references to social and emotional learning. It is essential that literacy instruction is grounded in explicit, systematic, and intentional instruction in phonological awareness, phonic decoding, oral and sign language, vocabulary, language structure, reading fluency, reading comprehension, and writing supported by strong and moderate evidence-based research. Comments promoting ideological or activist frameworks are misplaced and detract from the proven methods that truly support student achievement.

Changes: None.

Comments: Many commenters expressed concerns about the availability of Federal funds. Some commenters were concerned about appropriated funds that the Department had not yet awarded, while others were concerned that incentivizing or re-directing funds to State-level entities to advance Priority 3 or to continue efforts to close the Department of Education would result in reduced funding and support in the future. Commenters questioned the potential impacts of reduced funding, noting for example, the impacts on personnel, academic programming and services, protections, and the identification of and services to specific populations or students (e.g., students with disabilities, homeless students, students in the juvenile justice or foster care systems, English learners, young learners with disabilities, Black students, and other underserved students). Others noted the difficulties that decreases in funding will have on rural districts and communities.

Many of these commenters called for the Department to continue education funding, with some requesting that the Department maintain funding under specific statutes, programs, or content areas.

Several commenters suggested maintaining funding for the TRIO programs. Some are concerned that the Department's emphasis on “education choice” and shifting control of education to States may result in less funding or support for these programs and the students they serve. One commenter requested that the Department engage with TRIO stakeholders to better understand the programs and their impact. Another commenter is concerned about the lack of alternatives to TRIO.

Discussion: Comments about funding levels for specific programs are outside the scope of this notice. To clarify, the final priorities are for use in currently authorized discretionary grant programs or programs that may be authorized in the future where Congress has appropriated funds and where the authorizing statutes permit doing so.

Changes: None.

Comments: Many commenters support continued Federal funding for research. Several commenters objected to the Department's cancellation of research grants under the National Center for Special Education Research given their importance related to understanding evidence-based solutions in special education and many suggested continuing these grants.

Discussion: As stated above, comments about funding for specific programs, including research grants, are outside the scope of this notice. For awareness, if it is within the authority of the program authorization where priorities are used, applicants may propose activities related to research.

Changes: None.

Comments: Multiple commenters supported a balanced relationship between Federal and State governments. One of the commenters suggested maintaining and expanding Federal programs that partner with States to achieve Statewide goals, citing the Statewide family engagement centers as an example. The commenter explained that the Federal government's funds are important to focus State efforts on topics of national concern and that States need the funds to pilot initiatives and determine what works before deciding to adopt approaches/strategies Statewide. Another suggested the Federal government continue to provide strong leadership, while State governments focus on evidence-based practices for all students.

Discussion: The 10th Amendment wisely reserved constitutional authority for education to the States in order to limit Federal overreach. Educational decisions should be made at the State level, where local needs, priorities, and circumstances can be better understood and addressed. The Federal government should look to the States to lead in crafting innovative and effective education policies, not impose top-down mandates. This approach is crucial for achieving the broader goal of educational excellence for all students. States must be empowered to create opportunities through policies that are more responsive, effective, and aligned with the unique needs of their communities.

Changes: None.

Comments: Several commenters suggested focusing investments on addressing, for example, teacher pay, teacher shortages, smaller class sizes, free meals, STEM, and mental health.

Discussion: The Department appreciates these suggestions and does not choose to add other priorities through this notice. We have issued separate notices related to artificial intelligence (AI), computer science, and mental health programs, and will issue notices on other priority areas as appropriate.

The Federal budget process, which involves the Administration setting its priorities through proposed funding levels, is separate from the process for establishing supplemental priorities. We continue to emphasize that many educational decisions, including those related to teacher pay, teacher shortages, and class size, should be made at the State level, where local needs, priorities, and circumstances can be better understood and addressed.

Changes: None.

Comments: One commenter suggested incorporating evidence into all Department grant programs including any new programs, and prioritizing evidence-based programs where appropriate.

Discussion: The Department appreciates this comment and notes that it has authority to incorporate evidence into competitive grant programs under the authority in the Education Department General Administrative Regulations (EDGAR) in 34 CFR 75.210. Additional comments on this topic are discussed later in this notice.

Changes: None.

Comments: None.

Discussion: After further review, the Department has made technical clarifying changes to the definition of “evidence framework” to ensure all paragraphs align in their structure and to clarify how study ratings would be used.

Changes: We have revised paragraph (a)(i) of the “evidence framework” definition to align with paragraphs (a)(ii)-(v), and have revised paragraphs (b)(iii) and (b)(iii)(3) to clarify how study ratings are used to assess strong evidence or moderate evidence.

Comments: Two commenters suggested adding a new priority that focuses on promoting local initiatives. One of the commenters felt that locally driven cross-sector solutions would be more effective in supporting local communities. The other commenter suggested reconsidering Priority 6 from the 2021 SSPs as the commenter felt it was better aligned with the Department's intention to empower State and local decision-making.

Discussion: The Department appreciates the commenters' interest in local projects. However, we do not believe a separate priority focused on local initiatives is necessary at this time, especially considering that Priority 3 would help empower states to consider or promote local initiatives. As noted elsewhere, we are interested in empowering States to implement what is best for students, families, and educators in their communities. We encourage States to work with local organizations, to the extent appropriate, to carry out projects that meet State goals and priorities. Additionally, many of the authorizing statutes for Department grant programs include local organizations as eligible entities and we would still have the authority to grant funds to local organizations in those programs.

Changes: None.

Comments: Multiple commenters recommended the addition of a priority for community partnerships that emphasizes collaboration among local entities to support education and economic outcomes. Relatedly, several commenters emphasized the importance of the Full-Service Community Schools program and efforts of that program to positively impact communities, schools, and academic outcomes. Two of the commenters encouraged the Department to continue support for this program.

Discussion: The Department appreciates commenters sharing their recommendations. While we agree that community partnerships may be valuable in local education efforts, we do not believe a priority specific to community partnerships is necessary. We note that, if it is within the authority of the program authorization where the priority is used, applicants may propose to include community partnerships as part of their projects. We note that comments about continued support for programs are outside the scope of this notice.

Changes: None.

Comments: Many commenters suggested proposing additional priorities. Some commenters recommended the addition of a priority for rural areas to ensure the unique needs of rural communities are addressed and recommended using National Center for Education Statistics locale codes to denote rural areas.

One commenter proposed a new priority that would focus the Department's SSPs more broadly than education on efforts that would support economic mobility, with the priority including subparts related to wraparound services, post-secondary success, family engagement, and workforce development, with the intent of leveraging community resources to impact outcomes. Another commenter suggested a priority for family engagement.

One commenter had recommendations for multiple additional priorities to address other educational needs, including high school redesign, redesign of assessments and accountability systems, the use of AI, and teacher satisfaction and retention. Another commenter encouraged the Department to address gaps in job-training partnerships, including subsidized employment for on-the-job training as a means of addressing teacher shortages.

One commenter suggested maintaining existing strategies that promote cradle to career opportunities for all students. Another commenter emphasized considering the needs of young children with disabilities and their families in any future investments.

Several commenters had suggestions for other ways that the Department could focus its funds. Commenters suggested, for example, prioritizing resources for projects that build equity, expand opportunities for students with disabilities to participate in early childhood education programs in community-based settings, serve historically disadvantaged communities, support the most vulnerable students, strengthen public schools, and advance academic achievement.

Discussion: We appreciate the thoughtful engagement of commenters and recognize the great importance of many of these topics. Educational needs differ significantly across the nation, and States are best positioned to determine and implement the solutions that best serve the unique needs of the students, families, and educators in their communities, rather than the Federal government imposing top-down mandates. As such, we are focusing these Federal priorities on addressing the urgent challenges highlighted by the abysmal NAEP scores in literacy, empowering parents and families, and returning education to the States. Specifically, we aim to prioritize evidence-based literacy programs, expand educational choice, and direct discretionary grant funds toward State-level entities to ensure that decisions are made closer to the communities they serve.

We will continue to consider these suggestions as we work to implement the final mission of the Department.

We note that, the Department has a priority available in EDGAR to prioritize rural areas using locale codes, if appropriate for a given competition. As such, we decline to make a change.

Changes: None.

Comments: One commenter suggested adding accessibility requirements to all three proposed priorities or proposing a fourth priority that would address accessibility requirements, for which the commenter included suggestions.

Discussion: We agree that it is important to consider the needs of students with disabilities as applicants respond to these grant priorities. We note that projects funded through discretionary grants using these priorities must already be consistent with the requirements of the Individuals with Disabilities Education Act (IDEA), Americans with Disabilities Act (ADA), of the Rehabilitation Act of 1973, where applicable. Therefore, the Department declines to add accessibility requirements to these priorities because they would be duplicative of existing law.

Changes: None.

Comments: One commenter, in expressing its overall support for the priorities, suggested that the Department provide examples of policies that explain why State governments are better equipped to implement the policies.

Discussion: While we thank the commenter for their comment, we decline in this document to specify examples or guidance to States regarding policies in which State governments might be better equipped to implement.

Change: None.

Comments: One commenter encouraged the Department to continue engaging with stakeholders on important issues. Another commenter suggested, more specifically, engaging with stakeholders on the development and evaluation of programs.

Discussion: The Department thanks commenters for their suggestions. We look forward to continued engagement with the American public on these critical topics, including on the development and evaluation of programs.

Changes: None.

Comments: Multiple commenters emphasized the need for the Department and these priorities to recognize the sovereignty of Tribal nations and well as Native communities, such as Native Hawaiians.

Discussion: We appreciate the commenters' request and note that in these priorities, the Department identifies Indian Tribes (as defined in 25 U.S.C. 5304(e)), Tribal organizations (as defined in 25 U.S.C. 5304(l)), or Tribal educational agencies (as defined in 20 U.S.C. 7452(b)(3)), as eligible entities that may carry out projects or proposals under Priority 3. These priorities do not alter the Department's existing relationship with Tribal nations or other Native communities.

Changes: None.

Comments: One commenter urged the Department to continue equitable services in any legislation that may be proposed regarding future education programs and services and to ensure compliance with specific legal rulings related to religious schools. The commenter is concerned that State-level grantees may exclude private schools, and in turn children who are eligible for Title program services, from available funding.

Discussion: We appreciate the commenter sharing their concerns. These final priorities are for use in currently authorized discretionary grant programs or programs that may be authorized in the future where Congress has appropriated funds and the authorizing statutes permit doing so. They do not apply to programs that have equitable services requirements. Moreover, these priorities do not change any existing legislation or requirements related to equitable services.

Changes: None.

Comments: One commenter noted that the notice's Regulatory Impact Analysis failed to consider the economic costs/benefits of accessibility compliance noting the economic benefits of relatively short-term educational investments as compared to the costs of lifelong dependence on social programs. Another commenter had concerns about compliance with Executive Order 14192 and the need to identify and repeal regulations and compliance with the National Environmental Policy Act.

Discussion: The Regulatory Impact Analysis explains why a regulation is needed, evaluates alternatives, and assesses the expected costs, benefits and impacts of the rule. It does not, therefore, address costs involved with meeting existing statutory requirements related to accessibility. Additionally, these priorities were determined by the Office of Management and Budget to be non-significant under section 3(f) of Executive Order 12866. These priorities are not considered to be an “Executive Order 14192 regulatory action”. These priorities do not impact the National Environmental Policy Act.

Changes: None.

Comments: One commenter expressed concern that the changes in the priorities will lead to confusion and inconsistency across States. The commenter believes the Department's role is necessary to provide leadership and establish consistency for students who move across States.

Discussion: States, rather than the Federal government, are best positioned to lead in education. Because State and local governments are closer to the students and families they serve, it is crucial that the Department empower States to create opportunities through policies that are more responsive, effective, and aligned with the unique needs of their communities.

Changes: None.

Comments: One commenter was concerned about the language of “one or more” included in the priorities, which the commenter thought gives too much authority to the Secretary in deciding policy implementation and implementing policy that has not gone through the legislative process.

Discussion: This language allows the Department to apply the priorities in the different contexts of many programs. It is a regularly used policy term that is available to the Secretary when priorities go through notice and comment rulemaking.

Changes: None.

Priority 1: Promoting Evidence-Based Literacy

Comments: Many commenters who submitted feedback on Priority 1 expressed support for focusing on improving literacy through evidence-based approaches. Numerous commenters shared concerns about student performance on reading assessments, including the NAEP assessment, noting literacy is critically important to being prepared for school and for the workforce. Many commenters noted the importance of grounding literacy instruction in evidence-based practices. Many commenters noted the urgency of broadening access to evidence-based literacy to as many students as possible. Some commenters shared personal stories about themselves or their children and experiences with dyslexia, and how evidence-based literacy gave them opportunities in life. Other comments described their support for the priority because of their experience with implementing evidence-based literacy in schools and seeing significant improvements in outcomes. Several commenters said that educator preparation programs should be providing future teachers with the knowledge to be experts in teaching evidence-based literacy, and that ongoing professional development should equip teachers with the latest information about evidence-based literacy strategies.

Discussion: Thank you to all the commenters who expressed support for Priority 1 and its focus on improving literacy through evidence-based approaches. We sincerely appreciate your thoughtful feedback and shared commitment to advancing literacy outcomes. Your support reinforces the importance of using proven strategies to ensure all learners have the opportunity to succeed.

Changes: None.

Comments: Several commenters made points related to assessments, including a commenter who supported the priority and advocated for comparing literacy results in the United States with other nations. Another commenter opposed the priority, noting concerns about the utility of standardized tests. Another commenter advocated for a new national assessment other than NAEP to replace State assessments.

Discussion: The Department appreciates these comments and notes that they are outside the scope of this notice.

Changes: None.

Comments: Some commenters said it was not clear how the priority was aligned with other decisions by the Administration, including proposals to eliminate currently authorized and funded literacy programs, grants that the Department has discontinued, the Reduction in Force conducted at the Department, or the proposed elimination of the Department of Education.

Discussion: As we work to realize the Department's final Mission and return education to the States, it is crucial that Federal dollars are directed toward addressing the most urgent needs of students and families. This includes prioritizing evidence-based literacy programs in response to the abysmal NAEP scores, ensuring that Federal resources are spent on strategies that have proven effective in improving student outcomes. Comments about issues such as the Reduction in Force are outside of the scope of this notice.

Changes: None.

Comments: Some commenters said that the Department must clarify how the priority does not endorse or appear to endorse any specific curriculum, literacy program, or pedagogical methods.

Discussion: This priority, along with the other priorities, does not require nor endorse any particular curriculum, program, or intervention. Furthermore, under the Department of Education Organization Act, the Secretary is not authorized to exercise any direction, supervision, or control over the curriculum, or program of instruction at any school or institution of higher education (see 20 U.S.C. 3403). The program components in this priority are grounded in evidence concerning what would help address the significant learning needs of students as demonstrated by NAEP. If the priority is used for a program, applicants could choose any curriculum that meets the evidence standard indicated in the priority.

Changes: None.

Comments: Several commenters recommended prioritizing learners of different ages in the literacy priority. For example, some commenters recommended that the Department dedicate funds to adult learners, with several commenters noting that increased literacy proficiency can lead to improved income levels. Several commenters recommended expanding the priority beyond elementary and secondary school students and connecting adult literacy with workforce preparation and training. Many commenters suggested a new priority and definition for adult education, more broadly, and provided text for consideration.

Discussion: We appreciate the commenters' points about the connection between literacy and employment outcomes and agree that literacy is an important aspect of being prepared for the workforce. To this end, if it is within the authority of the program authorization where the priority is used, applicants may propose to include adult literacy instruction as part of their projects.

Changes: None.

Comments: Several commenters advocated for adding to the priority a focus on early learning, with some advocating for starting at birth. One commenter suggested that support should go beyond classroom instruction to include early identification and support systems and recommended a focus on birth to age eight due to the high return on investment. The commenter also advocated for the Department to work with the Department of Health and Human Services and States to increase access to high-quality early learning. Another commenter suggested that the Department should have a campaign for reading to children starting at birth.

Discussion: We agree with the commenters who noted the connection between literacy for early learning and school readiness. To this end, if it is within the authority of the program authorization where the priority is used, applicants may propose to design projects with a focus on early learning and early identification and support systems. While the Department agrees that coordination with other agencies and reading campaigns can be beneficial, such suggestions are outside the scope of these priorities.

Changes: None.

Comments: Numerous commenters recommended that the Department revise the priority to require States, districts, and schools prioritize literacy instruction for students with disabilities. Some commenters recommended including funding for screeners that identify children at risk or those with learning disorders, such as dyslexia. One commenter said that literacy initiatives must be developmentally appropriate and be individualized to align with an Individualized Education Program or Individualized Family Service Plan.

Discussion: Thank you for your comments and recommendations regarding the prioritization of literacy instruction for students with disabilities. The Department appreciates the thoughtful input and the emphasis on the importance of ensuring strong literacy outcomes for this population.

While the student groups that are the focus of this priority would be determined based on the underlying program authority, the language of the priority is intentionally broad to provide a framework that can inform and support ongoing and future efforts to improve literacy instruction for all students, including those with disabilities. This includes promoting evidence-based practices that can be aligned with programs aimed at serving students with disabilities.

Changes: None.

Comments: A commenter advocated for requiring policies and interventions to address dyslexia.

Discussion: The Department recognizes the importance of identifying dyslexia and providing high-quality learning opportunities to all students, including students with dyslexia. Applicants may propose or expand upon policies and interventions to address dyslexia if those activities are authorized under a program statute.

Changes: None.

Comments: Several commenters noted the importance of serving American Indian, Alaska Native, and Native Hawaiian students. One commenter recommended a carve-out within the priority to support community best practices for projects and proposals aimed at improving literacy of American Indian and Alaska Native children through culturally driven programs.

One commenter recommended that evidence-based methods should include indigenous knowledge systems, oral traditions, and language revitalization. Another commenter recommended revising the definition of “evidence-based literacy instruction” to include dual-language and Native American language programs that are supported by community-based evidence or culturally responsive evaluation methods and recommended ensuring that grantees working with Native American students are encouraged to integrate Tribally grounded reading materials and community knowledge systems in alignment with Tribal education codes and language initiatives. A commenter advocated for the use of cultural context and indigenous language evidence for literacy practices to be effective for Native Hawaiian students.

Discussion: The Department appreciates the commenters' points about the importance of serving American Indian, Alaska Native, and Native Hawaiian students. The evidence-based literacy priority will promote literacy instruction based on evidence to ensure that explicit, systematic, and intentional instruction in phonological awareness, phonic decoding, oral and sign language, vocabulary, language structure, reading fluency, reading comprehension, and writing help all students, including Alaska Native and Native Hawaiian students, learn to read. Note: A comment summary and discussion regarding the addition of oral and sign language and writing is discussed later in this notice.

The Department believes these components of evidence-based literacy, as defined in the notice, are the best strategies to focus on for improving student literacy for all students. These components were identified by the National Reading Panel and codified in the Elementary and Secondary Education Act, as amended (ESEA).

Changes: None.

Comments: Several commenters advocated for ensuring that English learners were served by the priority, with some commenters saying that the moderate or strong evidence was not available for serving multilingual students and could result in multilingual students being left out if approaches are limited to moderate or strong evidence. Some commenters expressed concern that limiting activities to moderate and strong evidence could exclude “innovative or promising approaches” that serve English learners, and said that the Department should ensure applicants serving specific populations are not disadvantaged because of the existing research base. One commenter noted that literacy instruction for English learners needs to be connected to their home language and connections need to be made across languages and noted the importance of serving multilingual students who also have disabilities. Some commenters stated that it was essential evidence-based literacy programs include culturally responsive materials.

Discussion: The Department is committed to improving literacy after the abysmal NAEP scores indicated that students are not meeting the education achievement standards they need. As stated earlier in this notice, the components of evidence-based literacy are based on the best available evidence. In a grant competition where this priority is used, activities would be reviewed for whether they meet the priority. Applicants may propose additional activities, including related to literacy, for which they would like to implement “innovative or promising approaches” and build evidence, if those activities are within the authority of the program authorization.

Changes: None.

Comments: Several commenters advocated for tutoring as a strategy for providing students support as part of an evidence-based literacy intervention. Commenters noted that tutoring can help to catch up students who are performing below grade level in literacy.

Discussion: The Department agrees that tutoring, particularly high-dosage tutoring, may be a strategy that is part of implementing evidence-based literacy. We note that the tutoring would need to be evidence-based as defined in the notice to meet the priority. If it is within the authority of the program authorization where the priority is used, applicants may propose to include tutoring services as part of their projects.

Changes: None.

Comments: Some commenters recommended highlighting approaches for providing evidence-based literacy outside of regular school time, with one commenter suggesting a new subpart focused on literacy-rich environments beyond the school day, including local community-based and faith-based afterschool and summer settings.

Discussion: The Department agrees that efforts to implement evidence-based literacy may occur outside of the regular school day. If it is within the authority of the program authorization where the priority is used, applicants may propose services that are provided outside of the regular school day as part of their projects.

Changes: None.

Comments: Some commenters suggested that the Department highlight the importance of access to books and school libraries. Commenters described how access to a variety of books fosters a love for reading, and that school libraries are important for ensuring that all students have access to books.

Discussion: The Department agrees that access to books is important for literacy instruction and for fostering a love of reading. We note that, if it is within the authority of the program authorization where the priority is used, applicants may propose to include the purchase of books and support of libraries as part of their projects.

Changes: None.

Comments: One commenter recommended adding language to the priority that would explicitly allow for screen-free tools and devices as instructional options. The commenter's suggested language is intended to ensure that non-screen tools are not excluded due to the method of delivery, while maintaining fidelity to rigorous evidence standards.

Discussion: The Department thanks the commenter for this point. Many states have undertaken programs or enacted policies which aim to reduce the screen time of students in the classroom. The priority does not dictate the medium of the tools and devices used in schools and applicants may propose approaches that they consider the most appropriate for their projects consistent with available evidence.

Changes: None.

Comments: Numerous commenters advocated for the role of parents and families in literacy, including through family engagement in literacy programs and family literacy programs, including approaches to focusing on literacy at home.

Discussion: The Department appreciates the commenters' advocacy for the central role of parents and families in learning. We agree that families are their children's first teachers and that engaging with families is very important for improving education. We also agree that evidence-based approaches to literacy may include appropriate family literacy programs. Finally, we note that family engagement is explicitly addressed in Priority 2.

Changes: None.

Comments: Some commenters suggested additions of approaches to literacy instruction. For example, a commenter advocated for adding “motivation” and “volume of reading” to the literacy definition. Another commenter suggested the definition be expanded to include world languages. Other commenters recommended adding to the literacy definition such areas as writing and written expression, mathematical literacy and financial literacy, and digital, media, and news literacy. Another commenter advocated the definition clarify how multitiered systems of support can be used to improve literacy across subject areas.

Discussion: The Department appreciates these suggestions. We agree that writing and oral language are essential components of evidence-based literacy instruction. We also think it is relevant to include sign language for students who use American sign language. However, we believe the other suggestions of commenters extend beyond the core elements of literacy, as identified by the National Reading Panel and codified in the ESEA, and may be better considered as supplementary rather than foundational. We note that, if these topics or activities are within the authority of the program authorization where the priority is used, applicants may propose to include them as part of their projects.

Changes: We revised the text of the definition of “evidence-based literacy instruction” to include writing and oral language. We also revised the text to include sign language for students who use American Sign Language.

Comments: Numerous commenters emphasized the importance of educator preparation and professional development, including coaching, to support teachers as strong literacy and reading practitioners. Several commenters expressed support for IDEA Part D personnel preparation programs as part of this work. Two commenters specified the importance of enhancing educators' use of data to inform literacy instruction. Another commenter advocated for the role of educators as “leading the design and implementation of instructional strategies,” while “educational agencies may lead the identification of instructional strategies.”

Discussion: The Department appreciates the commenters' points about the connection between literacy and educator preparation. We note that, if it is within the authority of the program authorization where the priority is used, applicants may propose to include activities related to educator preparation as part of their projects.

Changes: None.

Comments: One commenter recommended adding speech-language pathologists and audiologists in advancing evidence-based literacy.

Discussion: The Department appreciates the commenters' points about the connection between literacy, speech-language pathologists, and audiologists. We note that, if it is within the authority of the program authorization where the priority is used, applicants may propose to include speech-language pathologists and audiologists as part of their projects.

Changes: None.

Comments: One commenter expressed an interest in working with the Department to promote functional literacy through the development of resources on the role of occupational therapy in improving academic achievement, as well as participation in school, community, and society.

Discussion: The Department appreciates the commenter's points about the connection between literacy and occupational therapists. We note that, if it is within the authority of the program authorization where this priority is used, applicants may propose to include occupational therapists as part of their projects.

Changes: None.

Comments: Several commenters expressed concerns that the priority is too narrowly focused. One commenter felt that the role of background knowledge, metalinguistic awareness, writing, English language development, and developing literacy in multiple languages are key elements of reading instruction that are not addressed in the evidence-based literacy framework. One commenter urged the Department to focus on the comprehensiveness of the definition, as the literacy pillars cannot be taught in isolation. Several commenters recommended revising the definition of evidence-based literacy instruction to add language development and the building of background knowledge given the different needs of learners to support comprehension. The commenters suggested that writing development, assessment, and intervention are other components of evidence-based literacy instruction that the Secretary should consider. One commenter said that the Science of Reading is outdated and needs to be updated.

Discussion: We agree with the importance of a comprehensive approach to literacy instruction and note that the priority is drafted to involve all of the pillars in combination to emphasize the ways they are interconnected. We also agree that writing, and oral and sign language, are essential components of evidence-based literacy instruction. We note that, if it is within the authority of the program authorization where the priority and definition are being used, applicants may propose to include other elements related to literacy that are supportive of the core definition.

Changes: As noted elsewhere, we revised the text of the definition of “evidence-based literacy instruction” to include writing and oral language. We also revised the text to include sign language for students who use American Sign Language.

Comments: Several commenters advocated for funds used to invest in high-quality instructional materials with one advocating specifically for high-quality instructional materials adaptable for “diverse learners,” including students with disabilities.

Discussion: The Department appreciates the commenters' points about the connection between literacy and high-quality instructional materials. If it is within the authority of the program authorization where the priority and definitions are used, applicants may propose utilizing high-quality instructional materials that can be adaptable to the needs of the students as part of their projects.

Changes: None.

Comments: Some commenters supported adding an emphasis on differentiated instruction, including offering specific language to incorporate differentiating instruction. One commenter advocated for the importance of annual testing to inform interventions for students based on their needs. Another commenter suggested consideration of whether to prioritize students who are at the bottom quartile of literacy achievement results. A commenter advocated for supporting all students, with a focus on those students farthest behind in literacy. One commenter recommended rewriting the priority to focus on students with the most need and accelerating learning, without contributing to tracking or remedial courses, and using technology.

Discussion: This priority will allow applicants to utilize strong or moderate evidence to provide literacy instruction to students and training to teachers with the goal of improving literacy outcomes for all students. If it is within the authority of the program authorization where the priority is used, applicants may propose to incorporate differentiated instruction or apply it to different programs when serving different groups, as part of their projects.

Changes: None.

Comments: One commenter made a general comment to ask the Department to do more to have States require evidence-based literacy. Another commenter advocated for standardized approaches to literacy described in the priority, with the Department requiring all States to follow the priority. Another commenter noted that the priority “would allow for States to have specific requirements around what is allowable with Federal funds and the ability to reject activities districts request to implement that might be literacy focused but not evidence based,” and did not express support or opposition.

Discussion: As the Department works to return education to the States, it appreciates the comments regarding State implementation and oversight of literacy initiatives. This priority is designed to support the use of strong or moderate evidence in literacy instruction and professional development. However, the Department does not intend to impose new requirements on States or mandate a standardized approach. Instead, it provides a framework to encourage evidence-based literacy practices while preserving State flexibility to align implementation with local policies, needs, and program goals.

Changes: None.

Comments: One commenter encouraged the Department to ensure a focus on rural areas in Priority 1.

Discussion: Priority 1 is not focused on any specific type of program, entity, or geographic area. However, we note that the Department already has a priority available under EDGAR (34 CFR 75.227) to prioritize rural areas, if appropriate for a given grant competition. As such, the Department does not need to include a focus on rural areas in this priority because the authority already exists.

Changes: None.

Comments: One commenter expressed support for the definitions of “evidence-based” and “evidence framework” as proposed. Some commenters expressed support for the inclusion of a definition of evidence and advocated for using the definitions in the ESEA or the What Works Clearinghouse (WWC). One comment representative of multiple organizations argued that broad reliance on the WWC is troublesome due to its lack of transparency in its policies and guidelines, stating that conclusions in their reports can be misleading and potentially damaging to program developers, and ultimately students.

One commenter noted the importance of certified, trustworthy researchers and reviewers of studies, and said that due to limited WWC capacity, evidence reviews must be done by third party organizations doing WWC training. Another commenter expressed support for funding evidence-based solutions and advocated for specific definitions for “evidence-based program” and “evidence-building program.” One commenter applauded the focus on proven literacy interventions and recommended widening the evidence definition to include “promising evidence” and “demonstrates a rationale.” The commenter also stated that the Science of Reading would not be considered an evidence-based practice in Priority 1. Another commenter recommended that the Department advise States to reference multiple evidence-validation resources, beyond curriculum alignment tools, to ensure subgrantees meet the rigorous criteria defined in this priority.

Discussion: We appreciate the comments that addressed the evidence definitions. We note that the definitions in the notice are aligned with ESEA and decline to introduce a new definition in the interest of consistency with statutory language and clarity for the education community. In a future notice, we anticipate proposing changes to EDGAR to align with the definitions of evidence in this priority.

We know that organizations in addition to the WWC may be well-positioned to classify evidence as moderate or strong, so have included the option to have external organizations verify the rigor of evidence cited in grant applications.

We will not be including “promising evidence” or “demonstrates a rationale,” because the body of evidence related to literacy supports a moderate or strong level of evidence, and we want the highest standard of content being used to help our students read.

Changes: None.

Comments: One comment representative of multiple organizations noted strong concerns with the WWC, and cited a report focused on how the WWC could be improved. The comment noted concerns about the negative impacts the budget cuts will have on the Institute for Education Sciences (IES) research and its ability to make the proposed changes to the WWC. The comment also provided a link to a guide to evidence for the Department's consideration.

Discussion: We appreciate commenters sharing concerns regarding the WWC. We acknowledge that other organizations may also be well-positioned to assess the rigor of evidence. As such, we have included the option for external organizations to verify the strength of evidence presented in grant applications in this priority.

Changes: None.

Comments: Two commenters expressed support for IES and recommended linking to IES resources in the priority.

Discussion: The Department appreciates the commenters' points related to IES as it relates to this priority. The Administration is focused on reforming and improving IES.

Changes: None.

Comments: Some commenters expressed concerns about evidence-based interventions being expensive, with one commenter saying that evidence-based strategies are likely most used by entities with more funding, under the Federal Education Innovation and Research program. Another commenter made a related point, suggesting that the Department emphasize that public support, including grant funding, is vital to help evidence-informed innovations reach scale.

Discussion: We appreciate the commenters' feedback. We believe maintaining a focus on moderate or strong evidence is critical to improving literacy outcomes for students. This notice finalizes definitions related to evidence to address some of these concerns.

Changes: None.

Comments: Another commenter urged the Department to prioritize funding for initiatives that have demonstrated measurable success in improving literacy outcomes for students, particularly in urban and rural school districts for both public and charter schools.

Discussion: We appreciate this comment. The priority will continue to focus on evidence-based literacy instruction that is supported by strong or moderate evidence because those approaches are the ones that have demonstrated measurable success and we want the highest standard of content being used to help our students read.

Changes: None.

Comments: Some commenters made suggestions related to sharing information about lessons learned. One commenter made recommendations related to data-sharing, rapid evaluation, and collaboration between product providers and researchers. The commenter suggested using funding to encourage use of evidence-based practices to publicly report results, including through clearinghouses, technical assistance, and capacity building.

Discussion: We agree with the importance of disseminating results of education programs, whether done by the Department or by other entities ensuring high-quality evidence materials. Several of the EDGAR selection criteria that can be used in any grant competition focus on sharing information about projects with the education community, and we may use those as appropriate for the purpose of the program. In addition, unless an exception applies, the Department requires all grantees to openly license materials developed with grant funds, and we encourage applicants to consider effective dissemination strategies for sharing what they learn from their projects.

Changes: None.

Priority 2: Expanding Education Choice

Comment: Multiple commenters expressed support for Priority 2 and the focus on expanding education choice, with many discussing the importance of having options available based on student interest, supporting parents as key decisionmakers, and ensuring that all students have access to quality schools regardless of income or geography. Some commenters highlighted the importance of offering flexible educational options for part-time students. Multiple commenters expressed support for the priority's focus on work-based learning and allowing high school students to earn college credits through participation in dual enrollment programs, which a few commenters specifically highlighted as accessible options for rural students. Some commenters specifically highlighted the importance of high impact tutoring, including one commenter who suggested an even greater emphasis on this strategy. One commenter offered support for the priority's inclusion of language supporting tax credit scholarship programs, educational savings accounts, and related options as areas of particular support, as well as support for State-level efforts to promote educational choice. Another commenter highlighted microschools and interest-based online courses as promising models that can be supported with expanded choice; this commenter also advocated for outcomes-based financing as a tool to support access to career-aligned training programs.

Discussion: We agree that this priority, and its focus on providing families and individuals with access to quality educational options, is important to best meet their unique needs. This priority can be adopted across a wide range of Department programs and offers applicants a wide range of options to develop strategies that increase educational choice and promote high-quality learning opportunities.

Changes: None.

Comments: Multiple commenters, including some commenters that support the public school choice components of the priority, expressed opposition to the aspects of the priority that could encourage applicants to propose strategies to encourage students to enroll in private schools. Many commenters noted that encouraging private school enrollment through voucher programs or other strategies diverts funding from public schools without generating proportional cost reductions in such schools.

Discussion: We are dedicated to ensuring families have access to high-quality educational options, and that families should have the freedom to select the best school for their children. Our commitment is to provide families with choices and equip them with the necessary information and tools to make these crucial decisions.

We believe that promoting education freedom supports public schools. Additionally, this priority will be implemented in programs that enhance the program statute, rather than replacing Federal statutory requirements, and must align with the specific language of each program where applicable.

Changes: None.

Comments: Commenters raised concerns that encouraging private school enrollment does not primarily benefit the students who need the most help, such as: low-income students because they cannot afford to pay the difference between the private school tuition price and the amount of the voucher; students with disabilities and English learners because private schools do not need to abide by the same civil rights requirements as public schools, nor afford protections and services such as those provided under IDEA or 504; students in rural areas because transportation and broadband access limit access to private schools; LGBTQ+ students and families, with some commenters sharing evidence that private schools practice exclusionary or discriminatory practices towards LGBTQ+ individuals; and students from religious minorities, as many private schools offer sectarian education and exclude students or limit the practice of other faiths.

Discussion: This priority is designed to increase access to educational choice for all students and allows parents to make informed decisions, choosing the best learning environment for their children. Depending on the program, this priority can be used as a tool for the Department to incentivize proposals that provide families with greater educational choice, whether that be through expanding charter schools, disseminating information on innovative school models, or providing families with resources to make the best education decisions for their learners. Education choice improves student outcomes and enables families to pursue an excellent education for their learners regardless of where they live.

This priority will be used to complement the applicable program statute and will not replace statutory requirements under the ESEA, IDEA, or other laws and must be consistent with all applicable Federal and State laws. The Department's Office for Civil Rights (OCR) enforces students' antidiscrimination protections.

Changes: None.

Comments: Some commenters shared concerns that there was limited evidence of the effectiveness of private school expansion efforts such as voucher programs, that private schools may have negative effects on communities such as increased racial segregation and isolation, and that private schools were not subject to the same accountability as public schools, risking waste and corruption.

Discussion: We appreciate the comments about the current evidence on educational choice. Parents best know their children and what they need to succeed. At its core, education choice provides parents the opportunity to select the best education option to meet their students' unique needs. This priority is designed to support this crucial work.

The evidence related to school choice indicates that it is connected to improved parent and student satisfaction and other positive outcomes. An analysis of a specific set of voucher programs found that they can be a cost-effective use of public funding for education.¹ The study found that private school voucher programs were generally at least as effective as traditional public schools at improving math and reading scores and cost the government less.

¹ Shakeel, M.D., Anderson, K.P., and Wolf, P.J. (2017). The Justice Is Worth the Squeeze: A Cost-Effectiveness Analysis of the Experimental Evidence on Private School Vouchers across the Globe. Paper presented at the Spring 2017 conference of the Society for Research on Educational Effectiveness.

As the body of evidence supporting the benefits of education choice continues to grow, the Department is committed to prioritizing innovative choice models and expanding the evidence base for education choice. EDGAR provides the Department with the authority to add an evidence priority to any competition, and the Department will consider those decisions and their connection to these priorities as appropriate.

Changes: None.

Comments: Multiple commenters discussed the inclusion of charter schools within the priority, with mixed feedback from commenters. Several commenters shared support for the inclusion of charter schools within the priority, highlighting the importance of public charter schools in providing high-quality choice where schools are accountable to Federal laws and regulations. Multiple commenters shared concerns with the inclusion of charter schools within the priority, citing insufficient evidence of the impact of charter schools on student outcomes; concerns that some charter schools may participate in exclusionary practices, including for students with disabilities and English learners; and that charter school expansion could divert resources from public schools. Another commenter recommended that the Department focus on the Charter Schools Program authorized under ESEA as the primary driver of charter school expansion, noting its robust protections for students with disabilities; and another recommended that the Department focus more on expanding choice programs within existing public schools over expansion of public charter schools.

Discussion: Charter schools play a foundational role in this Administration's priority of empowering parents with educational options and are a key lever to improving student outcomes and increasing the number of high-quality educational choices available to our Nation's students and families. The inclusion of charter schools within this priority is intended to support continued expansion and enhancement of charter school programs, through a focus on areas such as replicating or expanding successful charter school models and supporting the successful operation of schools through technical assistance. This priority builds upon the Administration's support for the Federal Charter Schools Program authorized through the ESEA and is designed to provide additional opportunities to prioritize and strengthen charter school programs. The Administration appreciates the feedback on the role and impact of charter schools and believes that the continued inclusion of these elements within the priority is critical to its successful implementation and responsive to calls to ensure that all students have access to high-quality education options.

Changes: None.

Comments: One commenter specifically identified support for the long-term planning for charter schools enabled under Priority 2 (a)(ii).

Discussion: The Department appreciates the support of this element of the priority. Thoughtful, strategic planning is essential to the success and sustainability of charter schools.

Changes: None.

Comments: Some commenters provided specific suggestions on the language related to technical assistance for charter schools within Priority 2 (a)(iii). A few commenters shared recommendations to expand this technical assistance to also include charter school authorizers and States, and several suggested that this technical assistance should include a focus on how to provide equitable access for students with disabilities, with one commenter also specifically referencing students with autism.

Discussion: The Department appreciates the feedback from commenters on this element of the priority and agrees that it may be helpful to the goal of supporting charter schools to support technical assistance to other entities, including States or authorizers, as these groups are critical to charter school expansion. The Department also appreciates many commenters' focus on providing opportunities to students with disabilities and ensuring compliance with IDEA and agrees that this could also be a relevant topic of technical assistance, but notes that the priority as written already provides applicants the flexibility to propose projects providing support connected to this topic and does not feel that specifying it as an option is necessary.

Changes: Priority 2 (a)(iii) is updated to indicate that technical assistance can be provided to States, authorizers, or other relevant parties supporting charter schools, in addition to charter school operators.

Comments: A few commenters provided input on the proposed focus areas for charter schools under Priority 2 (a)(i). One commenter suggested that the Department should not identify suggested focus areas and instead allow the field to innovate, or to keep potential focus areas as invitational priorities only. Several commenters opposed the inclusion of classical education and patriotic education among the list of proposed topic areas, with concerns including that the areas were vague and needed definition, lacked evidence of their effectiveness, or that their inclusion may violate prohibitions on the Department's involvement related to specific curricula or programs of instruction. Specifically, for patriotic education, one commenter raised concerns that this topic area may stifle coverage of Black history and experience and create a hostile environment for students. Other commenters discussed the proposed focus area under (a)(i)(4) on charter schools to serve students with disabilities or special needs, with one commenter opposing this focus area, and one urging the Department to prioritize transparency, monitoring, and accountability for such schools. Another commenter opposed using the phrase “students with special needs” in this section as it is not a defined term in law.

Discussion: The Department appreciates the feedback from commenters on the proposed focus areas for charter schools. The Department notes that we do not establish or identify the type of priority (Absolute, Competitive Preference, or Invitational) through an NFP but separately in each Notice Inviting Applications in which the priority is used. Additionally, the language of the priority allows for the focus on schools with a “record of improving students' academic achievement,” not only the specific focus areas listed in (a)(i).

The Department appreciates the feedback on the inclusion of classical education, patriotic education, and models serving students with disabilities, but disagrees with the concerns raised by commenters. The Department believes that including these as topic areas is responsive to innovation occurring within charter schools. Many charter schools with such focus areas as classical education and serving students with disabilities have been opened and the Department intends to continue to support such innovation from the field.

Further, the Department views patriotic education models as a critical tool to support citizenship competency and informed patriotism, rooted in a recognition of the value of America's foundational principles and ideals, and an accurate and honest account of American history. The Department plans on defining patriotic education in an upcoming notice and wants to provide the public the opportunity to comment on the potential definition. For this notice, the Department prefers to allow charter schools flexibility in the models they propose under this element of the priority. The Department, does, however, agree to amend the language in Priority 2 (a)(i)(4) to reference only students with disabilities.

Changes: Priority 2 (a)(i)(4) has been amended to remove the reference to students with special needs.

Comments: Several commenters suggested additional forms of public school choice to incorporate within Priority 2. Multiple commenters encouraged the Department to explicitly mention magnet schools in the priority, noting that such schools are key to expanding education choice. One commenter also recommended that the Department include controlled choice, interdistrict transfer, and dual language immersion public charter schools as options under the priority.

Discussion: We appreciate these suggestions. While we view magnet schools as an allowable option under (a) of this priority, we agree that their prominence as an educational choice model in the public school system warrants explicit reference. Regarding the other suggestions, we prefer to focus the text of the priority on core choice options that can be integrated across a wide range of programs and do not think additional changes are needed.

Changes: Priority 2 (a) has been revised to include reference to magnet schools.

Comments: Several commenters suggested additional options to include in Priority 2 as options to advance educational choice. One commenter recommended that the Department add an option for projects or proposals to expand access to high-quality afterschool and summer learning to the priority, noting that these programs are critical elements of the school choice landscape. Another commenter recommended that the Department include projects or proposals to expand access to high-quality, proficiency-based language education taught by a certified language educator and to those supporting students working towards a Seal of Biliteracy, citing evidence around workforce needs and employability skills as rationale.

Discussion: Thank you for these suggestions. We recognize the value of high-quality afterschool and summer learning programs, as well as proficiency-based language education. We want to focus Priority 2 on core choice options that can be integrated across a wide range of programs and note that after-school and summer learning programs can be included in applicant proposals if they are allowable within the authority of the program authorization where the priority is used. This approach allows for broader applicability and ensures that the priority supports education choice in a scalable way.

Changes: None.

Comments: Some commenters highlighted the importance of ensuring that information is communicated in ways that English learners can understand in order to expand education choice for all families.

Discussion: While this priority does not specifically highlight communication strategies for parents of English learners, applicants may propose activities that ensure information is accessible and understandable to all families, including English learners, as part of their efforts to expand education choice. The Department notes, when communicating with parents whose English is limited about their child's education, public schools must comply with applicable laws.

Changes: None.

Comments: Some commenters raised concerns that the priority threatened the separation of Church and State by allocating Federal dollars to sectarian schools. One commenter recommended expanding educational choice to include Christian schools recognized by reputable accrediting organizations.

Discussion: We believe that families should choose the educational experience that is best for their children. The priority does not change any existing laws regarding public school funding as it relates to religious schools.

Changes: None.

Comments: Several commenters discussed the inclusion of home-based education programs in the priority. One of these commenters shared support for policies to advance home-based education if there are requirements in place for data collection and reporting. Another commenter supported the inclusion and recommended that the Department explicitly mention individuals pursuing home-based education in the Commonwealth of Northern Mariana Islands in Priority 2 (f) to ensure that these communities receive support in this area. One commenter said that the Department should provide technical assistance to parents who are or are interested in homeschooling their children. Several commenters opposed any policies that would leverage Federal grant funds to advance home-based education, citing concerns around diverting funds from public schools and accountability.

Discussion: We believe that families are best equipped to make decisions about the educational settings that will help their children thrive. We consider technical assistance for parents about homeschooling to be an allowable option under (f) of this priority. Applicants may propose activities to develop resources with students who are home schooled in mind, and those resources may have benefits beyond those attending school in other settings as well. For example, families who choose home schooling may create cooperatives that leverage learning resources in their community or online. These learning resources may also be for use by students who attend school in other settings as enrichment resources. Regarding concerns about diverting funds from public schools, the Department notes that the vast majority of public school funding comes from State and local governments. For the allocation of Federal dollars, we believe that promoting choice options, such as home-based education, complements the public school system and fosters healthy competition, ultimately benefiting all educational options.

Changes: None.

Comments: One commenter expressed strong support for the dual enrollment option in Priority 2 and encouraged the Department to make changes to support instructional quality in dual enrollment programs. More specifically, the commenter provided feedback about professional development for high school dual enrollment instructors, collaborative models between secondary and post-secondary institutions, funding for research-practice partnerships, and instructional alignment as a criterion in evaluating programs.

Discussion: The Department appreciates the commenter's suggestions as it relates to dual enrollment. We note that, if these activities are within the authority of the program authorization where this priority is used, applicants may propose to include them as part of their projects. Therefore, we do not believe changes to the priority are necessary.

Changes: None.

Comments: Several commenters urged the Department to continue funding adult education and Career and Technical Education (CTE) programs at current levels. One commenter said that this priority ignores the importance of adult education and also said that such programs are underfunded.

Discussion: We appreciate these comments. Comments about funding for specific programs are outside the scope of this notice. The Department is focusing these Federal priorities on addressing the urgent challenges highlighted by the abysmal NAEP scores in literacy, empowering parents and families, and returning education to the States. Therefore, we decline at this time to add adult education to this priority.

Changes: None.

Comments: A few commenters recommended that the Department encourage or require applicants responding to Priority 2 to propose projects that meet certain evidence thresholds. One commenter recommended that the Department require projects to use strong or moderate evidence, similar to the levels of evidence required in Priority 1. Another commenter recommended that applicants use evidence-based practices or a logic model in their projects and engage in data collection.

Discussion: The Department appreciates the commenters' interest in evidence-based practices. EDGAR provides the Department with the authority to add an evidence priority to any competition, and the Department will consider those decisions and their connection to these priorities as appropriate.

Changes: None.

Comments: Several commenters discussed the connection between transportation and education choice, noting the importance of transportation as an enabling factor for taking advantage of school choice, as well as acknowledging how a lack of transportation options can serve as a barrier to choice for some students, particularly those in rural communities. One commenter recommended that the Department add language to Priority 2 to address transportation explicitly, with specific recommendations to encourage States and organizations to allow transportation expenses as a permitted use of scholarship or tax-credit funds and to support innovation in transportation solutions. Another commenter recommended that the Department invest in transportation infrastructure to support access to educational options.

Discussion: The Department appreciates the commenters' perspective on transportation as an aspect of education choice. If it is allowable within the authority of the program where the education choice priority is being used, applicants may propose to include activities that use funds for transportation as part of their projects.

Changes: None.

Comments: Several commenters provided specific feedback on the priority related to access for students with disabilities. A few commenters recommended that the Department require projects disseminating information on choice programs involving private schools ensure that parents understand what rights they may waive when attending private schools. Several commenters also recommended that the Department require private schools that participate in educational choice programs to enroll and provide services to students with disabilities that are aligned with requirements in Federal laws such as IDEA.

Focusing on other elements of Priority 2, one commenter recommended that the Department revise (g) on dual and concurrent enrollment programs to support access for students with disabilities by providing funding to hire counselors and for high impact tutoring.

Another commenter discussed the importance of having choice available to young learners with disabilities and recommended that resources be used to strengthen and support public early intervention and education services. This commenter also encouraged the Department to ensure choice initiatives consider inclusion as an evidence-based practice and promote the importance of holistic, developmentally appropriate practices.

Discussion: Education choice empowers all families and students, including those with disabilities, to select the educational environment that best meets their needs. The priority language supports the dissemination of information for all education choice options for students, including information about the rights of students with disabilities, and allows applicants to propose the most effective methods of communication and topics in order to reach and support the specific students and families they intend to serve. We decline to add additional requirements as the context may vary based on a particular competition or program.

This priority can be utilized in any discretionary grant competition, including those that focus on young learners with disabilities. The Department may also use selection factors related to evidence-based practices from EDGAR.

Changes: None.

Comments: One commenter discussed the role of parents as key decision-makers in IDEA Part C Early Intervention Programs and recommended that the Department recognize and maintain the parent role as a key decisionmaker in early intervention within Federal priorities.

Discussion: The Department agrees with the central role of parents and families as decision-makers. Any use of this priority in a particular program would be in addition to the core requirements and elements of the underlying program, which would also be true in programs authorized under the IDEA.

Changes: None.

Comments: Multiple commenters expressed concern about the impact that the priority would have on Tribal education, including concerns that the priority could direct funding away from Tribal schools. One commenter suggested that the Department require Tribal consultation anytime this priority is used in programs that impact Tribal communities.

This commenter further suggested that the Department ask applicants to describe how the proposed curricular models “demonstrate cultural relevance and alignment with State or Tribal academic standards, particularly in schools serving significant numbers of Native students,” and ensure that Tribal Education Departments can apply for funding to develop Tribal choice models. One commenter recommended that the Administration affirm its commitment an Executive Order or Presidential memorandum.

Discussion: The priority does not change any specific funding levels for programs at the Department. This priority can be used in any discretionary grant competition, including those that focus on Native populations. Proposing executive orders or presidential memorandums are outside of the scope of this notice.

Changes: None.

Comments: One commenter recommended that Priority 2 (h) on high-impact tutoring be revised to add language encouraging projects or proposals that use aspiring teachers as tutors, create pathways for tutors to receive credentials such as paraprofessional and PK-12 educator licenses, or offer both PK-12 students and tutors additional work-based learning opportunities. Another commenter supported the inclusion of high-impact tutoring and recommended that the Department ensure that such efforts are adapted to local context, supported by data, and implemented with fidelity.

Discussion: We appreciate the commenters' suggestions to explicitly connect high-impact tutoring to supporting teacher pathways by encouraging the use of aspiring teachers as tutors as well as the suggestions of strategies to strengthen tutoring programs. We note that, if it is within the authority of the program authorization where the priority is used, applicants may propose to include these activities as part of their projects.

Changes: None.

Comments: A few commenters provided suggestions for how Priority 2 (j) could be revised to strengthen workforce pipelines and address shortages for teachers, related service providers, and other in-demand professions. Specifically, one commenter recommended that elements (iii-v) focused on pre-apprenticeships, apprenticeships, and work-based learning explicitly reference education occupations. Another commenter recommended that the Department ensure that apprenticeship opportunities under Priority 2 (j)(iv) are explicitly available to a wide range of fields, including audiology and speech-language pathology. One commenter also recommended that the Department promote teacher apprenticeship structures that allow teacher apprentices to serve as the teacher of record as part of high-quality, non-traditional programs. Finally, one commenter recommended that the Department revise Priority 2 (j) to include an option for skilled trades education.

Discussion: We share the commenters' interest in strengthening the educator pipeline; we note that as written, the language in 2 (j) would allow applicants to propose strategies to expand educational choice in ways that address workforce shortages, including teacher shortages, in their communities. The Department believes that States and localities are best positioned to identify workforce shortage areas.

Changes: None.

Comments: None.

Discussion: We note that the Notice of Proposed Priorities and Definitions included a misnumbering in Priority 2 (j)(i)-(v).

Changes: We have revised Priority 2 (j) such that “work-based learning” is now paragraph (v) and the “shortened time-to-degree models” is now paragraph (vi).

Comments: One commenter recommended that the Department revise Priority 2 (j) to include an option for “youth apprenticeships” distinct from pre-apprenticeships and apprenticeships. Another commenter recommended that projects targeted to the high school or postsecondary level under (j) include a focus on hands-on learning experiences.

Discussion: We thank the commenter for suggesting the addition of youth apprenticeships. We agree that the skills and training provided through apprenticeship pathways should be available as an option to our nation's youth and have revised Priority 2 (j)(iv) to make this clear.

Changes: We have changed Priority 2 (j)(iv) to “Registered Apprenticeships” and noted that they include apprenticeships for in-school and out-of-school youth.

Comments: One commenter recommended that the Department explicitly include alternative educator preparation and pathway programs within the priority, with specific suggestions to incorporate references to these programs in part (k) on part-time coursework and career preparation. This commenter suggested that the Department include a definition for “high-quality alternative educator training and support program” in connection with these proposed revisions.

Discussion: We thank the commenter for this recommendation. We note that, if it is within the authority of the program authorization where the priority is used, applicants may propose to describe their alternative educator preparation and pathways programs as part of their projects. Therefore, in order to ensure that the priority is structured in a way that can accommodate this and other approaches to providing greater flexibility around coursework and career preparation, we decline to make this change.

Changes: None.

Comments: One commenter recommended that the Department add a new section to Priority 2 focused on expanding access to career navigation that would prioritize cross-system collaboration to engage participants in a process leading to quality jobs and sustainable career pathways.

Discussion: We share the commenter's interest in leveraging Department grant programs to expand access to career navigation systems. We note that, in a separate Notice of Proposed Priority, the Department is proposing a Secretary's Supplemental Priority on Career Pathways and Workforce Readiness. We welcome comments on this proposed priority and anticipate using it in grant programs to encourage applicants to propose strategies to assist students in making informed education and career decisions.

Changes: None.

Comments: One commenter recommended that the Department replace the term “competency-based education” in Priority 2 (j)(ii) with “personalized competency-based learning” and suggested a definition for this term.

Discussion: We appreciate this comment and proposed definition. We agree, depending on the program in which the priority is used, that personalized learning may be allowable under “competency-based education”. For this reason, we do not think a revision to the priority is necessary.

Changes: None.

Comments: One commenter recommended amending Priority 2 (a)(i)(1) to add AI and data science to the description of STEM.

Discussion: The Department appreciates this commenter's suggestion and shares the commenter's interest in integrating AI into education. We note that the current priority language specifically mentions “computer science” and the proposed definition of computer science explicitly identifies AI as a key area of focus. In addition, we note that the Department has separately published a Notice of Proposed Priority and Definitions proposing a new Secretary's Supplemental Priority on Advancing Artificial Intelligence in Education (90 FR 34203). We anticipate that priority language, when finalized, will provide the Department with additional flexibility to advance AI education, including in charter schools by combining with Priority 2.

Changes: None.

Comments: Another commenter supported the priority to expand research and evaluation of education choice policy and provided specific recommendations to explicitly incorporate language into the final policy priorities that promotes transparency in assignment mechanisms and encourages the development and deployment of innovative, AI-supported digital tools for family engagement in school choice and education savings account programs.

Discussion: We appreciate these suggestions. As noted above, the Department has separately published a Notice of Proposed Priority proposing a new Secretary's Supplemental Priority on Advancing Artificial Intelligence in Education (90 FR 34203). We anticipate that priority language, when finalized, will provide the Department with additional flexibility to advance AI education. Additionally, we note that, if it is within the program authority where the priority is used, applicants may propose these types of activities as part of their project.

Changes: None.

Comments: One commenter recommended a definition for the term “industry-recognized credential,” used under Priority 2 (g).

Discussion: We thank this commenter for the suggestion and agree that adding a definition to provide clarity is helpful to applicants.

Changes: We are adding a definition from the Workforce Innovation and Opportunity Act of “Recognized Postsecondary Credential” to the Definitions section. Where “industry-recognized credential” is used, we are inserting “postsecondary” between “recognized” and “credential.”

Comments: One commenter suggested that the priority's emphasis on short-term, workforce-aligned credentials should not supplant access to broad, high-quality, affordable postsecondary education, and asserted that studies warn that shortened or non-degree programs often result in lower earnings and reinforce occupational stratification for marginalized groups unless paired with strong quality, transfer, and mobility assurances.

Discussion: While we appreciate the commenter's feedback, the Department believes it is important to promote choice options, such as shortened time-to-degree models in addition to other options. Parents and youth are best positioned to make decisions about their education and future.

Changes: None.

Priority 3: Returning Education to the States

Comments: As described in the general summary of comments, several commenters offered support for Priority 3. Several commenters offered support for themes presented in the background of the priority. Commenters agreed, for example, that States and local decision-makers have a better understanding of their students and families and are better suited to make decisions on their behalf, that resources can be deployed more effectively at the local level under this priority, and that the priority expands opportunities for families. One commenter shared that States are best positioned to design responsive, student-centered systems. One commenter supported the priority and noted that they do not agree with Federal agencies receiving funding for education or disability relief programs. Many offered nuanced support, noting they agree with the concept of States determining what works best for their communities, and offered concerns or considerations that are summarized elsewhere in this section.

Discussion: Thank you to all the commenters who expressed support for Priority 3 and its focus on returning education to States. We continue to believe that States, rather than the Federal government, are best positioned to lead in education. Because States and local governments are closer to the students they service, it is crucial that the Department empower States to create opportunities through policies that are more responsive, effective, and aligned with the unique needs of their communities.

Comments: Several commenters generally opposed or expressed concern with Priority 3. Some felt that the priority was connected to the Administration's goal to close the Department of Education and disagreed with the use of the priority to achieve that goal. Commenters also disagreed with moving oversight of IDEA to another agency.

Commenters were concerned that closure of the Department will negatively impact public education. Many expressed support for various functions that the Department performs, such as providing and overseeing funding for specific groups of students (e.g., students who qualify for services under Title I of the ESEA and IDEA), enforcing students' rights and protections, conducting research and evaluation, ensuring accountability and transparency of State education systems and setting minimum expectations, and providing technical assistance to States, especially underperforming and underfunded States. Many commenters are concerned that closure of the Department will lead to fewer student protections under applicable laws, especially for specific groups of students, such as LGBTQ+ students, students of color, students with disabilities, and those traditionally underserved.

Many commenters provided feedback that the Department should continue to carry out its core functions, with multiple requesting restoration of Department staff, specifically staff from OCR and IES. Several commenters stated that the authority to close or dismantle the Department lies with Congress.

Many commenters disagreed with or questioned the background for the priority presented in the Notice of Proposed Priorities and Definitions claiming that it is misleading because it gives the impression that States do not already control most of education. They argued that the Department's role is limited and that most education-related decisions, such as curriculum choices, educational standards and testing, graduation requirements, teacher certification requirements, personnel, and funding are already made at the State and local levels. One commenter said that the Department's oversight role will be more important if greater authority is given to States. One commenter requested a correction to the preamble to clarify the Department's already limited role in State and local education decisions.

Several commenters stated that Federal education structures have yielded benefits and gave specific examples. One commenter cited data related to, for example, increased graduation rates, including for Black and Hispanic students, decreased gaps in performance between student populations, and an increase in the percentage of students with disabilities attending schools with students in the general population.

One commenter said that dismantling the Department would limit the Administration's ability to achieve its evidence-based literacy and educational choice goals.

Discussion: This priority is for use in currently authorized discretionary grants programs or programs that may be authorized in the future where Congress has appropriated funds and the authorizing statutes permit doing so. It is a means of addressing the most urgent needs of students and families. The text of the background that is being addressed in the comments provides context to the priorities but is not text that can be utilized in any grant competition as it is not part of the final priority. Therefore, we are not making any changes in response to comments about the background.

The Department agrees that the Federal government's role in education is limited and is issuing Priority 3 to improve educational outcomes by reducing the administrative burden of Federal grants and empowering States to take the lead in shaping education policy. As this priority may only be used in currently authorized discretionary grant programs or programs that may be authorized in the future, we do not agree that it will undermine current functions of the Department. States understand their communities best and we remain committed, through this effort and others, to return greater authority over educational decisions to States and local communities.

Comments about the Department's closure and the closure's potential impact on current Department functions and funding are outside the scope of this priority. This priority does not relieve the Federal government of its responsibilities to enforce student protections under civil rights and other laws.

Changes: None.

Comments: Regarding the rights of children and families, several commenters stated that the Department's role in enforcing civil rights and ensuring equitable access emerged from States not adequately fulfilling these responsibilities and therefore, it is important for the Department to continue this enforcement. Several commenters questioned whether the priority, by granting funding to States, abandons the Department's responsibility in protecting and enforcing civil rights and questioned how the Department will ensure that States comply with Federal laws such as Title VI, Title IX, IDEA, and Section 504 of the Rehabilitation Act. Many commenters are concerned about protections and equal access to education for specific student populations, including students with disabilities, English learners, LGBTQ+ students, and migratory students. Two commenters suggested addressing how the Department will provide guidance to and oversight of States to ensure compliance with Federal laws, including how they will ensure that all students have equal access to education. Two commenters proposed conditioning the receipt of Federal funds on State compliance with civil rights statutes. Many suggested the Department must continue its role in protecting student rights.

Discussion: The Department notes that these comments, which speak to legal obligations, are outside of the scope of this notice. These priorities are related to the Department's discretionary grant programs. This priority can only be used in competitions where States are already eligible applicants. This Administration has shown steadfast commitment to ensuring grantees follow civil rights laws. Grantees must, as a condition of receiving funds under our programs, commit to adhering to all Federal civil rights and other laws, including the laws mentioned by commenters.

Changes: None.

Comments: Many commenters stated that the priority is overly limiting in its focus on State-level entities. Multiple commenters argued that it is Congress' responsibility to determine eligibility. Another commenter noted that State-level entities are already eligible entities in some Federal discretionary grant programs and that the Department should continue to ensure that all key stakeholders, not just State-level and Tribal entities, are eligible entities.

Some commenters said that focusing on States could negatively affect local communities, students, and families. These commenters noted, for example, that some States may not apply for specific programs thereby removing educational opportunities from students in those States, that States may not focus the funds on areas with the greatest needs, that routing funding through States may not be an efficient approach, and that other types of entities might be better poised to implement specific projects and proposals depending on the program. One commenter recommended striking, at a minimum, subsection (f) of the priority. The commenter expressed concern that allowing Governors or chief State education officials to identify specific entities runs the risk of politicization, exclusion, or statutorily ineligible entities being included.

Several commenters said that the priority, despite the stated purpose, would reduce local authority and control and further exacerbate inequities between small, rural and high-poverty districts, and other districts. One commenter suggested revising the priority to ensure that high-poverty, rural, and small districts are not negatively impacted by the priority. One commenter suggested that limiting grants to States runs counter to the Administration's position of limiting government interference.

Many commenters felt that limiting eligibility to State-level entities would prohibit effective non-profit organizations from applying for grants. Additionally, there were a large number of commenters representing Native Hawaiian and Native American stakeholders who opposed limiting the priority to State-level applicants for this reason. Many of these commenters suggested removing the priority or revising it to include non-profits, or a consortium of non-profits, in the list of eligible entities. These commenters noted, for example, the flexibility, cultural expertise, and impact that community-based organizations (i.e., currently eligible entities), have had implementing projects in Native Hawaiian communities. Another commenter suggested clarifying that the priority, as written, would not apply to programs if the authorizing statute includes non-profits as an eligible entity. One commenter said Native Hawaiian Education program funds should not be distributed through the State.

For reasons such as these, commenters suggested broadening the priority to include non-profits, post-secondary institutions, local educational agencies, and locally driven community partnerships. One commenter also suggested targeting funds to communities that have been historically disadvantaged and that have a higher need population. Another group of commenters emphasized the important role Hispanic serving institutions play and encouraged prioritizing them within the current framework.

Discussion: We do not believe it is necessary to include other entities in this priority. The priority does not change funding levels or the eligible entities authorized in program statutes. These comments are outside the scope of this priority and the authority of the Department. This priority gives the Department the ability to focus on or incentivize State-level entities in discretionary grant programs where State-level entities are already eligible applicants and allows the Department to encourage State-level or State-coordinated projects where States are not themselves the grantee. While we appreciate commenters sharing their concerns about the focus on State-level entities, we do not believe such concerns outweigh the benefits of this priority. The 10th Amendment wisely reserved constitutional authority for education to the States in order to limit Federal overreach. Educational decisions should be made at the State level, where local needs, priorities, and circumstances can be better understood and addressed.

Changes: None.

Comments: Several commenters representing Tribal stakeholders appreciated the inclusion of Tribes in the list of eligible entities. Some requested adding Tribes to the title of the priority to emphasize their inclusion and to reinforce the relationship and role of Tribes.

Several commenters questioned if the priority, as written, delegates the Federal government's trust responsibility with Tribes to State-level entities and requested that the Department engage in meaningful Tribal consultation on matters. One commenter clarified that Tribes do not have the same responsibilities as States and, therefore, urged the Department to clarify the priority language so that it accurately reflects the arrangement between Tribes, States, and the Federal government in meeting students' needs. One commenter, in considering the potential for any transfer of authority, urged the Department not to compromise any Federal Indian education program and that funds should continue to flow directly to Tribal Education Departments.

Two commenters suggested requiring a partnership between State entities and Tribes. Another commenter suggested making a separate, permanent priority for Tribes.

Discussion: This priority is focused on returning education to the States and includes prioritizing various statewide entities and Tribes as potential grantees. It would not change the Federal government's trust responsibility with Tribes and, in fact, gives the Department additional ability to preference support for Tribes. While it is not practical to name every subcomponent of the priority in the priority's title, the title itself does not determine how the priority is used, and we hope commenters will nonetheless appreciate the additional emphasis on Tribes.

Changes: None.

Comments: One commenter suggested revising the title and the lead text of the priority to emphasize State innovation. The commenter also suggested requiring States to use evidence-based practices, tools, and programs in their projects or proposals. Specifically, the commenter recommended the term evidence-based as defined in the ESEA.

Discussion: The Department appreciates the feedback regarding State innovation. While the Department is committed to fostering innovation at the State level, it is dedicated to allowing States the flexibility to determine the most effective ways to implement programs within their own jurisdictions. In discretionary programs where the Department may consider it appropriate to require the use of evidence-based practices, we have the authority to incorporate evidence into competitive grant programs using factors in EDGAR.

Changes: None.

Comments: Several commenters supported the Department's role in helping States with research, evaluation, and sharing of best practices across States. Several commenters said that the Department should continue technical assistance investments and explained that these investments help States implement their programs and comply with Federal laws (possibly by adding specific examples, including the National Evaluation of Career and Technical Education, which was named by a commenter). One commenter requested that the Department maintain programs focused on technical assistance and building State capacity, particularly in areas of national concern such as cybersecurity and student privacy protection. One commenter said it would be inefficient for every State to engage in the same research and evaluation work. One commenter was concerned that it will be more difficult to learn from other States if the Department is no longer gathering data.

Discussion: This priority can be utilized in grant competitions in which State-level entities are already eligible applicants or where States can take on a greater role. As mentioned earlier, comments about funding and the authorization of programs are outside the scope of this priority and the authority of the Department.

Changes: None.

Comments: As noted in a previous section, several commenters said the Department plays an important role in ensuring accountability and transparency of State education systems. Other commenters noted that the Department's data, including performance data, is beneficial to education stakeholders. One commenter suggested the Department maintain requirements in their current form for annual State assessments and for each State to have an accountability system, noting that such policies protect States from interest groups whose goal is to eliminate transparency; identify gaps between student populations; and require consequences when progress goals are not met. The commenter also emphasized that State accountability data are the only objective data and that parents rely on these data to make important school-related decisions. One commenter suggested deemphasizing national standardized tests in light of the shift to greater State authority.

Discussion: We appreciate the points about the importance of transparency and believe that prioritizing various State-level entities and Tribes as potential grantees would promote transparency at a level closer to students and families. We note that this priority does not alter any accountability requirements, and the Department will hold States or any other grantee accountable to requirements associated with the program(s) they are receiving funds to administer.

Changes: None.

Comments: Another commenter recommended the Department remove excessive accountability on public schools that do not also apply to private, parochial, co-ops, homeschools, and other variations of education.

Discussion: This comment is outside the scope of the proposed notice. As noted earlier, this priority does not alter any accountability requirements.

Changes: None.

Comments: Several commenters said it is the Department's responsibility to administer IDEA and support State and local implementation to meet the needs of students with disabilities, including requirements for infants and toddlers with disabilities. Several commenters provided examples related to identification, personnel, services, and protections that would be affected if IDEA funding, including IDEA Part D (National Activities), are not awarded or the Department is not available to provide oversight and technical assistance. One commenter said Priority 3 would undermine the Department's ability to fulfill its responsibilities under IDEA.

Discussion: This priority does not impact the Department's oversight role within IDEA and merely allows the Department to work more closely with States. Comments about funding for specific programs and any impact a potential future closure might have on current Department functions are outside the scope of this notice.

Changes: None.

Comments: Several commenters expressed concern that Priority 3 would result in decreases in overall Federal education funding. Others questioned whether focusing on State-level entities would eliminate or redirect funds away from existing Federal programs. Some commenters said that the intent of Federal funding is to supplement State and local funding to support the needs of specific students. Some suggested that combining funds into a block grant for States undermines and negates Congress' intention to focus on specific groups of students or specific high priority topics. Another suggested that combining funding for special needs students with other funding would result in programs that vary widely from State to State. One commenter said that elimination of a supplement/not supplant requirement for the funds would likely result in reduced school funding. One commenter disagreed with withholding funds if State priorities do not align with Federal priorities.

Discussion: Comments about funding are outside the scope of this notice. This priority is for use in currently authorized discretionary grant programs or programs that may be authorized in the future where Congress has appropriated funds and the authorizing statutes permit doing so.

This priority would elevate the role of States in programs where they are already eligible to apply. We believe this priority would leverage State capacity to improve educational opportunities.

Changes: None.

Comments: One commenter recommended providing State Medicaid agencies with specific guidance about reimbursement for school-based services. The commenter included suggestions for consideration.

Discussion: This comment is outside the scope of this notice.

Changes: None.

Comments: One commenter suggested building into the priority mechanisms for States to prioritize rural districts in competitions and to include separate funding allocations for rural, urban, and suburban areas.

Discussion: The Department has a priority available in EDGAR to prioritize rural areas, if appropriate for a given competition. As such, the Department does not need to include a focus on rural areas in this priority.

Changes: None.

Comments: One commenter recommended using the priority to support State or local efforts to more broadly utilize high-quality alternative certification initiatives to effectively address teacher shortages.

Discussion: We appreciate this comment. If it is within the authority of the program authorization where the priority is used, applicants may propose to include activities of this nature as part of their projects.

Changes: None.

Comments: One commenter suggested the priority establish a minimum counselor to student ratio as a means of protecting student mental health and ensuring academic success, while still providing State flexibility.

Discussion: This priority is intended to give States the flexibility they need to meet the needs in their States. We do not believe establishing a requirement of this specificity is appropriate given the goal of this priority.

Changes: None.

Comments: Several commenters had concerns about State-level infrastructure or capacity to successfully implement new programs under this priority. One commenter suggested prioritizing Federal support toward State-level data infrastructure to ensure that States are equipped to manage, safeguard, and use their data as more funds are transitioned to States. Another commenter suggested investing funds in building State-level capacity to carry out the work of the priority. Another commenter encouraged the Department to consider the administrative and financial impacts the priority will have on eligible entities and ensure they have the resources they need to implement programs successfully.

Two commenters are concerned that States do not have the capacity to take on the work the priority would require, with two commenters expressing specific concerns about under-resourced States and Tribal entities. These commenters suggested ensuring that Tribal entities and under-resources States receive technical assistance. One commenter noted, for example, that the State of Hawaii does not have the capacity to serve Native Hawaiians in all States even though the funds are intended for all Native Hawaiians. One commenter claimed that it is more efficient for the Department to enforce civil rights and compliance with IDEA than for State or local staff to do it.

Discussion: While the Department appreciates the comments, it is beneficial to keep the focus of the priority narrow to ensure that is has wide applicability across many different programs. As noted previously, this priority is intended for use in currently authorized discretionary grant programs or programs that may be authorized in the future where Congress has appropriated funds and the authorizing statutes permit doing so. The priority does not compel States to apply for any funding they are not able to expend with fidelity. Nevertheless, the Department will continue to uphold its oversight responsibilities for any entities that receive an award.

Changes: None.

Comments: Other commenters provided feedback about potential inappropriate political influence by States. For example, two commenters were concerned that greater State control could lead to inappropriate political or ideological influence in curriculum. One of the two commenters suggested curriculum decisions should instead be based in evidence and the other suggested the need for Federal oversight to ensure this influence does not transpire. One commenter noted, in enforcing civil rights and compliance with IDEA, that State and local staff are more vulnerable to political influences. Another commenter shared that the Federal government's role is important to ensure that local policies do not change regularly due to political changes.

One commenter cautioned against giving all funding to States given the disparities in the quality of education systems. The commenter recommended maintaining Parent and Training Information Centers as independent organizations that are not subject to the influence of outside factors such as State governments, noting that States may not act in the best interest of families. One commenter requested that the Department ensure that roles are clearly defined so that important programs are not unintentionally ended.

Discussion: We appreciate this feedback. The Department will continue to uphold requirements under Federal law. We continue to believe that States, rather than the Federal government, are best positioned to lead in education because they are closer to the students and families they serve.

Changes: None.

Final Priorities

The Secretary establishes the following priorities for use in any Department discretionary grant program.

Priority 1: Promoting Evidence-Based Literacy

Projects or proposals to do one or more of the following:

(a) Advance, increase, or expand evidence-based literacy instruction (as defined in this notice), or

(b) Focus on evidence-based literacy instruction (as defined in this notice).

Priority 2: Expanding Education Choice

Projects or proposals that will do one or more of the following:

(a) Increase access to public charter schools and other innovative school models, such as public laboratory schools, magnet schools, public microschools, course-based choice, or regional academies, which may include one or more of the following:

(i) Efforts to expand or replicate existing charter schools that have a record of improving students' academic achievement or have a specific focus on one or more of the following:

(1) Science, technology, engineering, and mathematics (STEM), including computer science,

(2) Career and technical education,

(3) Evidence-based literacy instruction,

(4) Serving students with disabilities,

(5) Patriotic education, or

(6) Classical education.

(ii) Multi-year plans to create new charter schools.

(iii) Providing Technical Assistance to States, charter school authorizers, new or existing charter schools, or other relevant parties that support charter schools related to authorization, operation, construction, or other relevant areas, including navigating State and local statutes and regulations.

(iv) Opening opportunities for new or existing charter schools to access resources that are currently only available to, or primarily accessed by, district schools in their area.

(b) Expand access to K-12 school options through open enrollment or course-based choice.

(c) Support dissemination of information for all education choice options for students, including private school enrollment, education savings accounts, tax credit scholarships, home-based learning and homeschooling, learning pods and co-ops, public charter schools, and district public schools through open enrollment or course-based choice.

(d) Support State or local development or implementation of education savings accounts.

(e) Support dissemination of information about education savings accounts.

(f) Support families in educating students through home-based education programs, which may include one or more of the following:

(i) Support for online learning communities, or

(ii) Assistance with understanding of State and local requirements for homeschooling.

(g) Provide or expand access to dual or concurrent enrollment programs (as defined in 20 U.S.C. 7801(15)) or early college high schools (as defined in 20 U.S.C. 7801(17)) or other programs where secondary school students begin earning credit toward a postsecondary degree or industry-recognized postsecondary credential prior to high school graduation.

(h) Expand access to education services that accelerate learning such as high-impact tutoring.

(i) Expand access to military schools or academies.

(j) Expand access to one or more of the following at the high school or postsecondary level:

(i) Distance education,

(ii) Competency-based or skills-based education,

(iii) Pre-apprenticeships,

(iv) Registered Apprenticeships, including apprenticeships for in-school or out-of-school youth,

(v) Work-based learning, or

(vi) Shortened time-to-degree models.

(k) Expand access to part-time coursework and career preparation.

(l) Expand access to programs or coursework that lead to in-demand, industry-recognized postsecondary credentials.

Priority 3: Returning Education to the States

Projects or proposals that will be carried out by one or more of the following:

(a) State educational agencies (as defined in 20 U.S.C. 7801(49)),

(b) Governors,

(c) State workforce development agencies or boards,

(d) State vocational rehabilitation agencies,

(e) State higher education agencies (as defined in 20 U.S.C. 1003(22),

(f) Entities identified, designated, or endorsed by a Governor or chief State education official for purposes of implementing the project or proposal,

(g) An Indian Tribe (as defined in 25 U.S.C. 5304(e)), Tribal organization (as defined in 25 U.S.C. 5304(l)), or Tribal educational agency (as defined in 20 U.S.C. 7452(b)(3)), or

(h) Consortia of the entities identified under this priority.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Definitions

The Secretary establishes the following definitions for use in any Department discretionary grant program in which the final priorities are used.

Computer science means the study of computers and algorithmic processes, including their principles, their hardware and software designs, theories, computational thinking, coding, analytics, applications, and Artificial Intelligence (AI).

Computer science often includes computer programming or coding as a tool to create software, including applications, games, websites, and tools to manage or manipulate data; or development and management of computer hardware and the other electronics related to sharing, securing, and using digital information. In addition to coding, the expanding field of computer science emphasizes computational thinking and interdisciplinary problem-solving to equip students with the skills and abilities necessary to apply computation to the digital world.

Computer science does not involve using computers for everyday tasks, such as browsing the internet or using tools like word processors, spreadsheets, or presentation software. Instead, it focuses on creating and developing technology, not just utilizing it.

Evidence framework means an approach to providing a determination about whether an activity, strategy, or intervention meets each aspect of the definition of strong evidence or moderate evidence (as defined in 20 U.S.C. 7801(21)(A)(i)(I-II)), as applicable.

(a) An evidence framework must include each of the following:

(i) Whether or not a study is an experimental study or quasi-experimental design study;

(ii) Whether or not a study shows a positive, statistically significant effect on student outcomes or other relevant outcomes;

(iii) Whether or not a study uses outcome measures that demonstrate validity and reliability, that do not give an unfair advantage to participants in one condition over another, and that are measured consistently for the groups or participants that are being compared;

(iv) Whether or not a study design is otherwise of high quality, including whether it minimizes factors outside the intervention that could affect student or other relevant outcomes (confounds) and whether random assignment (if used) was done with integrity; and

(v) Whether or not study implementation and analysis is appropriate, including whether groups or participants being compared demonstrate baseline equivalence on key individual and other relevant characteristics, whether differences in baseline equivalence are statistically controlled, and by considering the impact on the validity of the study of any changes to the sample over time.

(b) An evidence framework may be implemented or verified by one or more of the following:

(i) An organization with relevant expertise that has demonstrated to the Department that it has a rigorous, transparent (i.e., publicly accessible) process for determining each aspect identified in (a);

(ii) By peer reviewers with statistical expertise who apply an evidence framework consistent with each aspect identified in (a) in reviewing support for an applicant's assertion that relevant information is strong evidence or moderate evidence, as applicable; or

(iii) By the Department or peer reviewers with statistical expertise who affirm an applicant's assertion that relevant information is strong evidence or moderate evidence because it is supported by study ratings included in the What Works Clearinghouse in one or more of:

(1) a practice guide;

(2) an intervention report; or

(3) individual studies otherwise assessed to meet strong evidence or moderate evidence.

Evidence-based literacy instruction means literacy instruction that relates to explicit, systematic and intentional instruction in phonological awareness, phonic decoding, oral and sign language, vocabulary, language structure, reading fluency, reading comprehension, and writing; promotes knowledge-rich materials; and is backed by one or more of the following, as supported by an evidence framework (as defined in this notice):

(a) strong evidence, meaning an activity, strategy, or intervention that demonstrates a statistically significant effect on improving student outcomes or other relevant outcomes based on at least one well-designed and well-implemented experimental study (strong evidence as defined in 20 U.S.C. 7801(21)(A)(i)(I)) or

(b) moderate evidence, meaning an activity, strategy, or intervention that demonstrates a statistically significant effect on improving student outcomes or other relevant outcomes based on at least one well-designed and well-implemented quasi-experimental study (moderate evidence as defined in 20 U.S.C. 7801(21)(A)(i)(II)).

Note: In any discretionary grant program competition in which the definition of “evidence-based literacy instruction” is used as proposed, the Secretary may use the entire definition or one or more of the subparts of the definition that are most relevant for the grant program competition.

Experimental study means a study that is designed to compare outcomes between two groups (such as students) that are otherwise equivalent except for their assignment to either a treatment group receiving an activity, strategy, intervention, process, product, practice, or policy as compared with a control group that does not. Experimental studies can support claims of strong evidence. Randomized controlled trials and single-case design studies are specific types of experimental studies that meet this definition.

Recognized postsecondary credential means a credential consisting of an industry-recognized certificate or certification, a certificate of completion of an apprenticeship, a license recognized by the State involved or Federal Government, or an associate or baccalaureate degree, as defined in section 3(53) of the Workforce Innovation and Opportunity Act.

Quasi-experimental design study means a study using a design that attempts to approximate an experimental study by identifying a comparison group that is similar to the treatment group in important respects. Cross-sectional group designs, comparative interrupted time series, difference-in-difference designs, and growth curve designs are specific types of quasi-experimental studies that meet this definition. This type of study can meet the definition of moderate evidence but not strong evidence.

Executive Orders 12866, 13563, and 14192

Regulatory Impact Analysis: This regulatory action is not a significant regulatory action subject to review by the Office of Management and Budget under section 3(f) of Executive Order 12866. These priorities are not considered an “Executive Order 14192 regulatory action.” We have also reviewed this regulatory action under Executive Order 13563. We are issuing the priorities and definitions only on a reasoned determination that their benefits would justify their minimal costs. The Department believes that this regulatory action is consistent with the principles in Executive Order 13563. We also have determined that this regulatory action would not unduly interfere with State, local, and Tribal governments in the exercise of their governmental functions. In accordance with these Executive Orders, the Department has assessed the potential costs and benefits, both quantitative and qualitative, of this regulatory action. The potential costs are those resulting from statutory requirements and those we have determined are necessary for administering the Department's programs and activities.

Discussion of Costs and Benefits: The priorities and definitions would impose no or minimal costs on entities that receive discretionary grant award funds from the Department. Additionally, the benefits of implementing the priorities and definitions outweigh any associated costs, to the extent these de minimis costs even exist, because the priorities and definitions would result in higher quality grant application submissions. Application submission and participation in competitive grant programs that might use the priorities and definitions is voluntary. We believe, based on the Department's administrative experience, that entities preparing an application would not need to expend more resources than they otherwise would have in the absence of these priorities and definitions. Because the costs of carrying out activities would be paid for with program funds, the costs of implementation would not be a burden for any eligible applicants that earn a grant award, including small entities.

Intergovernmental Review: This action is subject to Executive Order 12372 and the regulations in 34 CFR part 79. This document provides early notification of our specific plans and actions for this program.

Regulatory Flexibility Act Certification: This section considers the effects that the final regulations may have on small entities in the educational sector as required by the Regulatory Flexibility Act, 5 U.S.C. 601 et seq. The Secretary certifies that this regulatory action would not have a substantial economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

Paperwork Reduction Act: The priorities and definitions do not contain information collection requirements or affect the currently approved data collection.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or another accessible format.

Electronic Access to This Document: The official version of this document is the document published in the Federal Register. You may access the official edition of the Federal Register and the Code of Federal Regulations at www.govinfo.gov. You may also access documents of the Department published in the Federal Register by using the article search feature at www.federalregister.gov.

Linda McMahon,
Secretary of Education.

[FR Doc. 2025-17310 Filed 9-8-25; 8:45 am]

BILLING CODE 4000-01-P